DEPARTMENT OF HEALTH AND HUMAN SERVICES

National Institutes of Health

National Institute on Aging; Amended Notice of Meeting

Notice is hereby given of a change in the meeting of the National Institute on Aging Special Emphasis Panel, July 01, 2014, 11:00 a.m. to July 01, 2014, 03:00 p.m., National Institute on Aging, Gateway Building, 7201 Wisconsin Avenue, Suite 2C212, Bethesda, MD, 20892 which was, published in the Federal Register on May 28, 2014, 79 30630.

The meeting notice is amended to change the date, time and title of the meeting from July 1, 2014, to July 15, 2014 from 11:00 a.m. to 3:00 p.m.; title changed from Reversibility to Gene X Environment Interaction. The meeting is closed to the public.

Dated: June 10, 2014.
David Clary,
Program Analyst, Office of Federal Advisory Committee Policy.

[FR Doc. 2014-13944 Filed 6-13-14; 8:45 am]

BILLING CODE 4140-01-P